DEPARTMENT OF THE INTERIOR

Bureau of Land Management

[LLCAC06000 L14400000 EU0000 17X L1109AF; CACA 52759]

Notice of Realty Action: Proposed Non-Competitive (Direct) Sale of Public Land in Santa Barbara County, CA

AGENCY: Bureau of Land Management, Interior.

ACTION: Notice of realty action.

SUMMARY: The Bureau of Land Management (BLM) is proposing to sell 5.93 acres of public land to resolve an unauthorized use and occupancy in Santa Barbara County, California, to Arc Vineyards, LLC, under the Federal Land Policy and Management Act of 1976 (FLPMA), as amended, at not less than the fair market value of $19,500.

DATES: Submit written comments to the BLM at the address below. Comments must be received by the BLM on or before February 5, 2018.

ADDRESSES: Bureau of Land Management, Bakersfield Field Office, 4801 Pegasus Dr., Bakersfield, CA 93308. Attn: Gabriel Garcia, Field Manager.

FOR FURTHER INFORMATION CONTACT: Maria Soto, Realty Specialist, 661-391-6023, at the above address or email to msoto@blm.gov. Persons who use a telecommunication device for the deaf (TDD) may call the Federal Relay Service (FRS) at 1-800-877-8339 to leave a message or question for the above individual. FRS is available 24 hours a day, 7 days a week. Replies are provided during normal business hours.

SUPPLEMENTARY INFORMATION: The following described land located in Santa Barbara County, California, is proposed for direct sale under the authority of Section 203 of FLPMA (43 U.S.C. 1713).

San Bernardino Meridian, California

T. 9 N, R. 33 W,

Sec. 20, lot 1.

The area described contains 5.93 acres.

The BLM determined the land is no longer required for any other Federal purpose. A direct sale of this parcel is in conformance with the 1997 Caliente Resource Management Plan (RMP), as amended by Environmental Assessment DOI-BLM-CA-C060-2012-0021 Decision Record signed on July 2, 2014. Subsequently, the 2014 Bakersfield RMP replaced the Caliente RMP. The parcel was identified as suitable for disposal and sale under Section 203 of FLPMA and is limited to the smallest acreage necessary to resolve the unauthorized use and occupancy. The BLM found no significant biological or cultural resource values on the lands and expects no impacts to resource values from this action. An Environmental Site Assessment has been performed and is available for review. The sale would dispose of an isolated public land parcel that is difficult to manage because it is completely surrounded by private land and there is no legal access, would allow the buyer to resolve an inadvertent unauthorized use (43 CFR 2711.3-3(a)(5)) and would set aside the unused area to meet Santa Barbara County's development/permitting requirements for open space. There is no public access. Arc Vineyards owns and controls the access to this public land parcel across its private land north and adjacent to the parcel.

The regulation at 43 CFR 2711.3-3(a)(5) authorizes the BLM to make direct sale of public lands when a competitive sale is not appropriate and the public interest would be best served by a direct sale. The BLM determined a direct sale will serve important public objectives by disposing of a parcel of isolated public land that the public cannot use or legally access and that the BLM cannot properly manage, and to resolve the inadvertent unauthorized use and occupancy of the land. The BLM prepared a mineral potential report dated October 25, 2011, concluding there are known mineral values in the land offered for sale. Therefore, the BLM will reserve the Federal mineral interest to the United States. Such minerals will be subject to the right to explore, prospect for, mine, and remove under applicable law and regulations.

On December 20, 2017, the above described parcel will be segregated from appropriation under the public land laws, including the mining laws, except the sale provisions of the FLPMA. Until completion of the sale or termination of the segregation, the BLM will no longer accept land-use applications affecting the identified public lands, except applications for the amendment of previously filed right-of-way applications or existing authorizations to increase the term of the grants in accordance with 43 CFR 2807.15 and 2886.15. The segregation will terminate upon issuance of a patent, publication in the Federal Register of a termination of the segregation, or 2 years after the date of publication, whichever occurs first, unless extended by the BLM State Director in accordance with 43 CFR 2711.1-2(d) prior to the termination date. The BLM will also publish this Notice in the Santa Maria Times once a week for 3 consecutive weeks. The parcel will not be sold until at least 60 days after the date of publication of this Notice in the Federal Register.

Conveyance of the identified public land would be subject to valid existing rights of record and the following terms, conditions, and reservations:

1. A right-of-way thereon for ditches and canals constructed by authority of the United States, Act of August 30, 1890 (43 U.S.C. 945).

2. A reservation of all minerals to the United States, and the right to prospect for, mine, and remove the minerals under applicable law and any regulations that the Secretary of the Interior may prescribe, including all necessary access and exit rights.

3. An appropriate indemnification clause protecting the United States from claims arising out of the patentee's use, occupancy, or occupation on the patented land.

Detailed information, including NEPA documentation and all other documents associated with this sale, are available for review during the 45-day public comment period for this notice at the Bakersfield Field Office at the above address.

For a period until February 5, 2018, interested parties and the general public may submit in writing any comments concerning the land being considered for sale, including notification of any encumbrances or other claims relating to the identified land, to the Field Manager, BLM Bakersfield Field Office, at the above address. Email will also be accepted and should be sent to: BLM_CA_Bakersfield_Public_Comments@blm.gov with “Public Land Sale” inserted in the subject line. Comments, including names and street addresses or respondents, will be available for public review at the BLM Bakersfield Office at the above address.

Individual respondents may request confidentiality. Before including your address, telephone number, email address, or other personal identifying information in your comment, the BLM will make your entire comment—including your personal identifying information—publicly available at any time. While you can ask in your comment to withhold your personal identifying information from public review, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

The BLM California State Director or other authorized official of the Department of the Interior will review comments regarding the sale and may sustain, vacate, or modify this realty action in whole or in part. In the absence of timely filed objections, this realty action will become the final determination of the Department of the Interior.

(Authority: 43 CFR 2710 and 43 CFR 2711)

Danielle Chi,
Deputy State Director, Division of Resources.

[FR Doc. 2017-27414 Filed 12-19-17; 8:45 am]

BILLING CODE 4310-40-P